FEDERAL ELECTION COMMISSION

Sunshine Act Meeting

TIME AND DATES: Wednesday, October 11, 2017 at 10:00 a.m. and its Continuation on Thursday, October 12, 2017 at 10:00 a.m.

PLACE: 999 E Street NW., Washington, DC.

STATUS: This Meeting Will be Closed to the Public.

MATTERS TO BE CONSIDERED: Compliance matters pursuant to 52 U.S.C. 30109.

Matters relating to internal personnel decisions, or internal rules and practices.

Matters concerning participation in civil actions or proceedings or arbitration.

* * * * *

CONTACT PERSON FOR MORE INFORMATION: Judith Ingram, Press Officer, Telephone: (202) 694-1220.

Laura E. Sinram,
Deputy Secretary of the Commission.

[FR Doc. 2017-21801 Filed 10-4-17; 4:15 pm]

BILLING CODE 6715-01-P